DEPARTMENT OF JUSTICE

Federal Bureau of Investigation

[OMB Number 1110-NEW]

Agency Information Collection Activities; Proposed Collection, Comments Requested; Applicant Information Form (1-783)

ACTION: 60-day Notice of Information Collection for Review.

The Department of Justice (DOJ), Federal Bureau of Investigation (FBI), Criminal Justice Information Services (CJIS) Division will be submitting the following information collection renewal to the Office of Management and Budget (OMB) for review in accordance with established review procedures of the Paperwork Reduction Act of 1995. The information collection is published to obtain comments from the public and affected agencies. Comments are encouraged and will be accepted for “sixty days” until August 15, 2011. This process is conducted in accordance with 5 CFR 1320.10.

All comments, suggestions, or questions regarding additional information, to include obtaining a copy of the proposed information collection instrument with instructions, should be directed to Rachel K. Hurst, Management Program Analyst, FBI, CJIS Division, Biometric Services Section (BSS), Support Services Unit (SSU), Module E-1, 1000 Custer Hollow Road, Clarksburg, West Virginia, 26306; or by facsimile to (304) 625-5392.

Written comments concerning this information collection should be sent to the Office of Information and Regulatory Affairs, Office of Management and Budget, Attn: DOJ Desk Officer. The best way to ensure your comments are received is to e-mail them to oira_submission@omb.eop.gov or fax them to 202-395-7285. All comments should reference the 8-digit OMB number for the collection or the title of the collection. If you have questions concerning the collection, please call Rachel Hurst at 1-304-625-2000 or the DOJ Desk Officer at 202-395-3176.

Written comments and suggestions from the public and affected agencies concerning the proposed collection of information are encouraged. Comments should address one or more of the following four points:

(1) Evaluate whether the proposed collection of information is necessary for the proper performance of the functions of the agency, including whether the information will have a practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information collection:

(1) Type of information collection: Approval of existing collection in use without an OMB control number.

(2) The title of the form/collection: Applicant Information Form.

(3) The agency form number, if any, and the applicable component of the department sponsoring the collection: 1-783; CJIS Division, FBI, DOJ.

(4) Affected public who will be asked or required to respond, as well as a brief abstract: Primary: Individuals. This collection is necessary for an individual to request a copy of their personal identification record to review it or to obtain a change, correction, or an update to the record.

(5) An estimate of the total number of respondents and the amount of time estimated for an average respondent to respond: Annually, the FBI receives 225,000 identification requests, therefore there are 225,000 respondents. The form requires three minutes to complete.

(6) An estimate of the total public burden (in hours) associated with this collection: There are approximately 11,250 burden hours associated with this collection.

If additional information is required contact: Jerri Murray, Department Clearance Officer, Justice Management Division, United States Department of Justice, Policy and Planning Staff, 145 N Street, NE., Room 2E-808, Washington, DC 20530.

Jerri Murray,
Department Clearance Officer, United States Department of Justice.

[FR Doc. 2011-14727 Filed 6-9-11; 8:45 am]

BILLING CODE 4410-02-P